DEPARTMENT OF DEFENSE

Office of the Secretary

[Docket ID DoD-2014-OS-0148]

Privacy Act of 1974; System of Records

AGENCY: Defense Finance and Accounting Service, DoD.

ACTION: Notice to alter a system of records.

SUMMARY: The Defense Finance and Accounting Service proposes to alter a system of records notice, T7335d, entitled “Civilian Pay Accounting Interface Records” in its inventory of record systems subject to the Privacy Act of 1974, as amended. This system maintains and processes civilian payroll accounting and finance data that originates in the Defense Civilian Payroll System (DCPS). The Civilian Pay Accounting Interface System (CPAIS) receives bi-weekly files that are used to generate civilian payroll costs, manpower data and reports; and detailed management reports for the U.S. Air Force. The system will also contain information on other than U.S. Air Force civilian employees. However, the CPAIS system will not use the non-Air Force data other than to transmit it directly to the General Accounting and Finance System (GAFS).

DATES: Comments will be accepted on or before December 17, 2014. This proposed action will be effective the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Gregory L. Outlaw, Defense Finance and Accounting Service, Freedom of Information/Privacy Act Program Manager, Corporate Communications, DFAS-HKC/IN, 8899 E. 56th Street, Indianapolis, IN 46249-0150 or at (317) 212-4591.

SUPPLEMENTARY INFORMATION: The Defense Finance and Accounting Service notices for systems of records subject to the Privacy Act of 1974 (5 U.S.C. 552a), as amended, have been published in the Federal Register and are available from the address in FOR FURTHER INFORMATION CONTACT or from the Defense Privacy and Civil Liberties Office Web site at http://dpclo.defense.gov/.

The proposed system report, as required by 5 U.S.C. 552a(r) of the Privacy Act of 1974, as amended, was submitted on November 10, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 10, 2014.
Aaron Siegel,
Alternate OSD Federal Register Liaison Officer, Department of Defense.

T7335d

System name:

Civilian Pay Accounting Interface Records (April 24, 2009, 74 FR 18701).

Changes:

* * * * *

System name:

Delete entry and replace with “Civilian Pay Accounting Interface System (CPAIS).”

System location:

Delete entry and replace with “Defense Information Systems Agency, Defense Enterprise Computing Center, 8705 Industrial Blvd., Building 3900, Tinker Air Force Base, OK 73145-2713.”

Categories of individuals covered by the system:

Delete entry and replace with “Defense Finance and Accounting Service civilian employees, United States Air Force civilian employees, civilian employees for the Defense Security Service and the National Geospatial-Intelligence Agency.”

Categories of records in the system:

Delete entry and replace with “Name, Social Security Number (SSN), manpower and payroll cost data elements: Federal Insurance Contribution Act (FICA), Federal Employees Retirement System (FERS), Medicare Payroll Deductions (MEDI), Federal Employees Group Life Insurance (FEGLI) and Night Differential Pay.”

Authority for maintenance of the system:

Delete entry and replace with “5 U.S.C. 301, Departmental Regulations; DoD Directive 5118.05, Defense Finance and Accounting Service; DoDD 7000.14-R, Department of Defense Financial Management Regulation (DoDFMR), Vol. 4, Accounting Policies; 31 U.S.C. Sections 3512, Executive agency accounting and other financial management reports and plans; 31 U.S.C. 3513, Financial reporting and accounting system; and E.O. 9397 (SSN), as amended.”

* * * * *

Storage:

Delete entry and replace with “Electronic storage media and paper copies.”

* * * * *

Safeguards:

Delete entry and replace with “Records are maintained in a controlled facility. Physical entry is restricted by the use of locks, guards, and is accessible only to authorized personnel. Access to records is limited to person(s) responsible for servicing the record in the performance of their official duties and who are properly screened and cleared for need-to-know. Access to computerized data is limited to CAC enabled users and restricted by passwords, which are changed according to agency security policy.”

Retention and disposal:

Delete entry and replace with “Records are cut off at the end of the payroll year and destroyed after being maintained for 6 years and 3 months. Records are destroyed by degaussing the electronic media and hardcopies are destroyed by shredding, burning, or pulping.”

System manager(s) and address:

Delete entry and replace with “Defense Finance and Accounting Service-Columbus, I&T, System Manager, Cash, General Funds and Miscellaneous Division, 3990 E. Broad Street, Columbus, OH 43213-1152.”

Notification procedure:

Delete entry and replace with “Individuals seeking to determine whether information about themselves is contained in this record system should address written inquiries to the Defense Finance and Accounting Service, Freedom of Information/Privacy Act Program Manager, Corporate Communications, DFAS-ZCF/IN, 8899 E. 56th Street, Indianapolis, IN 46249-0150.

Requests should contain individual's full name, SSN for verification, current address, and provide a reasonable description of what they are seeking.”

Record access procedures:

Delete entry and replace with “Individuals seeking access to information about themselves contained in this record system should address written inquiries to Defense Finance and Accounting Service, Freedom of Information/Privacy Act Program Manager, Corporate Communications, DFAS-ZCF/IN, 8899 E. 56th Street, Indianapolis, IN 46249-0150.

Request should contain individual's full name, SSN for verification, current address, and telephone number.”

Contesting record procedures:

Delete entry and replace with “The Defense Finance and Accounting Service (DFAS) rules for accessing records, for contesting contents and appealing initial agency determinations are published in Defense Finance and Accounting Service Regulation 5400.11-R; 32 CFR part 324; or may be obtained from the Defense Finance and Accounting Service, Freedom of Information/Privacy Act Program Manager, Corporate Communications, DFAS-ZCF/IN, 8899 E. 56th Street, Indianapolis, IN 46249-0150.”

* * * * *

[FR Doc. 2014-27029 Filed 11-14-14; 8:45 am]

BILLING CODE 5001-06-P